EXPORT-IMPORT BANK OF THE UNITED STATES

Notice of Open Meeting of the Advisory Committee of the Export-Import Bank of the United States (Ex-Im Bank)

SUMMARY: The Advisory Committee was established by Public Law 98-181, November 30, 1983, to advise the Export-Import Bank on its programs and to provide comments for inclusion in the reports of the Export-Import Bank of the United States to Congress.

Time and Place: Wednesday, September 9, 2009 from 9:30 a.m. to 12 p.m. The meeting will be held at Ex-Im Bank in the Main Conference Room 1143, 811 Vermont Avenue, NW., Washington, DC 20571.

Agenda: Agenda items include a short summary of the Bank's recent activities, plus reports from the two Subcommittees of the 2009 Advisory Committee members.

Public Participation: The meeting will be open to public participation, and the last 10 minutes will be set aside for oral questions or comments. Members of the public may also file written statement(s) before or after the meeting. If you plan to attend, a photo ID must be presented at the guard's desk as part of the clearance process into the building, and you may contact Susan Houser to be placed on an attendee list. If any person wishes auxiliary aids (such as a sign language interpreter) or other special accommodations, please contact, prior to September 5, 2009, Susan Houser, Room 1273, 811 Vermont Avenue, NW., Washington, DC 20571, Phone: (202) 565-3232.

FOR FURTHER INFORMATION CONTACT: Susan Houser, Room 1273, 811 Vermont Ave., NW., Washington, DC 20571, (202) 565-3232.

Jonathan Cordone, Sr.,
Vice President and General Counsel.

[FR Doc. E9-20707 Filed 8-27-09; 8:45 am]

BILLING CODE 6690-01-M